ENVIRONMENTAL PROTECTION AGENCY

[FRL-7140-9]

EPA Science Advisory Board; Notification of Public Advisory Committee Teleconference Meeting

Summary—Pursuant to the Federal Advisory Committee Act, Public Law 92-463, notice is hereby given that the Clean Air Scientific Advisory Committee (CASAC or the “Committee”), a chartered Federal advisory committee, will meet in a public teleconference on Wednesday, February 27, 2002 from 11 am to 2 pm Eastern Time. The meeting will be hosted out of Conference Room 6013, US EPA, Ariel Rios Federal Building, 1200 Pennsylvania Avenue, NW, Washington, DC 20004. The meeting is open to the public, however, due to limited space, seating will be on a first-come basis. For further information concerning the meeting or how to obtain the phone number, please contact the individual listed below.

Purpose of the Meeting—At this meeting, the CASAC expects to review two documents: (a) The Agency's Proposed Methodology for Particulate Matter Risk Analyses for Selected Urban Areas (hereafter, draft PM Risk Analysis Methodology); and (b) a brief Letter Report drafted by the CASAC Subcommittee on Particle Monitoring (on its review of the Agency's draft Continuous Monitoring Implementation Plan) that was prepared as a result of the January 28, 2002 Subcommittee meeting.

Availability of Review Materials—(a) Information on obtaining a copy of the draft PM Risk Analysis Methodology (item a) above), or on how to provide comments to the Agency, can be found at: http://www.epa.gov/fedrgstr/EPA-AIR/2002/January/Day-28/a2013.htm. See also 67 FR 3897, January 28, 2002 for more details. (b) We expect that the draft Subcommittee Letter Report (item b) above), which is still under development, will be available approximately a week before the teleconference on the SAB Website (www.epa.gov/sab) under the DRAFT REPORTS subheading. Please contact Ms. Rhonda Fortson (see below) for details on the availability of this Letter Report.

FOR FURTHER INFORMATION CONTACT: Members of the public desiring additional information about the meeting, must contact Mr. Robert Flaak, Designated Federal Officer, Clean Air Scientific Advisory Committee, EPA Science Advisory Board (1400A), Suite 6450, U.S. EPA, 1200 Pennsylvania Avenue, NW, Washington, DC 20460; telephone/voice mail at (202) 564-4546; fax at (202) 501-0582; or via e-mail at flaak.robert@epa.gov. A copy of the draft agenda will be posted on the SAB Website (www.epa.gov/sab) (under the AGENDAS subheading) approximately 12 days before the meeting.

Members of the public desiring additional information about the meeting location or the call-in number, must contact Ms. Rhonda Fortson, Management Assistant, Clean Air Scientific Advisory Committee, EPA Science Advisory Board (1400A), Suite 6450, U.S. EPA, 1200 Pennsylvania Avenue, NW, Washington, DC 20460; telephone/voice mail at (202) 564-4563; fax at (202) 501-0582; or via e-mail at fortson.rhonda@epa.gov.

Written Comments—In accordance with the Federal Advisory Committee Act (FACA), the public is encouraged to submit written comments on these two draft reports. Written comments must be received no later than the day prior to the meeting, preferably in electronic format (e-mail). Comments received after the meeting will be forwarded to the Committee, but will not be available for comment or discussion during the meeting. Oral Comments—The SAB will have a brief period (no more than 30 minutes) available during the Teleconference meeting for applicable public comment. Members of the public who wish to make a brief oral presentation must contact Mr. Flaak in writing (by letter or by fax—see previously stated information) no later than 12 noon Eastern Time, Thursday, February 21, 2002 in order to be included on the Agenda. The oral public comment period will be limited to thirty minutes divided among the speakers who register. Registration is on a first come basis, allowing approximately three to five minutes per speaker or organization. Speakers who are unable to register in time, may provide their comments in writing.

Providing Oral or Written Comments at SAB Meetings

It is the policy of the Science Advisory Board to accept written public comments of any length, and to accommodate oral public comments whenever possible. The Science Advisory Board expects that public statements presented at its meetings will not be repetitive of previously submitted oral or written statements.

Oral Comments: In general, each individual or group requesting an oral presentation at a face-to-face meeting will be limited to a total time of ten minutes. For conference call meetings, opportunities for oral comment will usually be limited to no more than three minutes per speaker and no more than fifteen minutes total, unless otherwise stated. Deadlines for getting on the public speaker list for a meeting are given above. Speakers should bring at least 35 copies of their comments and presentation slides for distribution to the reviewers and public at the meeting.

Written Comments: Although the SAB accepts written comments until two days following the date of the meeting (unless otherwise stated above), written comments should be received in the SAB Staff Office at least one week prior to the meeting date so that the comments may be made available to the committee for their consideration. Comments should be supplied to the appropriate DFO at the address/contact information noted above in the following formats: one hard copy with original signature, and one electronic copy via e-mail (acceptable file formats: WordPerfect, Word, or Rich Text files (in IBM-PC/Windows 95/98 format). Those providing written comments and who attend the meeting are also asked to bring 35 copies of their comments for public distribution.

General Information—Additional information concerning the EPA Science Advisory Board, its structure, function, and composition, may be found on our Website (http://www.epa.gov/sab) and in the just-released EPA Science Advisory Board FY2001 Annual Staff Report—Expanding Expertise and Experience which is available from the SAB Publications Staff at (202) 564-4533 or via fax at (202) 501-0256. Committee rosters, draft Agendas and meeting calendars are also located on our website.

Meeting Access—Individuals requiring special accommodation at this meeting, including wheelchair access to the conference room, should contact Mr. Flaak at least five business days prior to the meeting so that appropriate arrangements can be made.

Dated: February 4, 2002.
Donald G. Barnes,
Staff Director, Science Advisory Board.

[FR Doc. 02-3095 Filed 2-7-02; 8:45 am]

BILLING CODE 6560-50-P